ENVIRONMENTAL PROTECTION AGENCY

40 CFR Part 52

[NC-84-9936(a), NC-88-9937(a); FRL-6520-4]

Approval and Promulgation of Air Quality Implementation Plans; North Carolina; Miscellaneous Revisions to the Forsyth County Local Implementation Plan

AGENCY: Environmental Protection Agency (EPA).

ACTION: Direct final rule.

SUMMARY: On January 17, 1997, and November 6, 1998, on behalf of the Forsyth County Environmental Affairs Department, the North Carolina Division of Air Quality submitted miscellaneous revisions to the Forsyth County Local Implementation Plan (LIP). These revisions adopt federally approved regulations, previously adopted into the North Carolina State Implementation Plan, into the LIP. These revisions include but are not limited to the adoption of Exclusionary Rules and the amending of multiple Volatile Organic Compounds (VOC) rules. EPA is approving these revisions because they are consistent with the requirements set forth in the Clean Air Act as amended in 1990.

DATES: This direct final rule is effective April 17, 2000 without further notice, unless EPA receives adverse comment by March 20, 2000. If adverse comment is received, EPA will publish a timely withdrawal of the direct final rule in the Federal Register and inform the public that the rule will not take effect.

ADDRESSES: Written comments on this action should be addressed to Randy Terry at the Environmental Protection Agency, Region 4 Air Planning Branch, 61 Forsyth Street, SW, Atlanta, Georgia 30303.

SIP materials which are incorporated by reference into 40 CFR part 52 are available for inspection at the following locations:

North Carolina Department of Environment and Natural Resources, 2728 Capitol Boulevard, Raleigh, North Carolina 27604;

Forsyth County Environmental Affairs Department, 537 North Spruce Street, Winston Salem, North Carolina 27171-1362;

Environmental Protection Agency, Region 4, 61 Forsyth Street, SW, Atlanta, GA 30303;

Office of Air and Radiation, Docket and Information Center (Air Docket), EPA, 401 M Street, SW, Room M1500, Washington, DC 20460; and

Office of the Federal Register, 800 North Capitol Street, NW, Suite 700, Washington, DC.

FOR FURTHER INFORMATION CONTACT: Randy Terry at the above Region 4 address or at 404-562-9032.

SUPPLEMENTARY INFORMATION: On January 17, 1997, and November 6, 1998, on behalf of the Forsyth County Environmental Affairs Department, the North Carolina Division of Air Quality submitted miscellaneous revisions to the Forsyth County Local Implementation Plan (LIP). A brief description of each major revision follows:

Subchapter 3D—Air Pollution Control Requirements

3D.0104 Incorporation by Reference

This rule was amended to adopt by reference all references to American Society for Testing and Materials methods (ASTM).

3D.0506, Hot Mix Asphalt Plants, 3D.0507, Particulates From Chemical Fertilizer Manufacturing Plants, 3D.0508, Particulates From Pulp and Paper Mills, 3D.0509, Particulates From Mica or Feldspar Plants. 3D.515, Particulates From Miscellaneous Industrial Processes

The tables in these sections which list both the process rate in tons per hour and the maximum allowable emission rate in lbs per hour were deleted and replaced by equations which were added to be used to calculate all emission limits for the particulates.

3D.0510, Particulates From Sand, Gravel, or Crushed Stone Operations and 3D.0511, Particulates From Lightweight Aggregate Processes

These rules were amended to include language ensuring the control of process-generated emissions from crushers with wet suppression and from conveyers, screens and transfer points.

3D.0521, Control of Visible Emissions

This rule was amended to define the six minute averaging period used to determine exceedences of the visible emission limits and to delete the grandfathered source exemption.

3D.0531, Sources in Nonattainment Areas

This rule was amended to adopt paragraph (k). Paragraph (k) requires new sources and sources undergoing major modifications to use the urban airshed model (UAM) to predict the effect on the ozone level and attainment status.

3D.0535, Excess Emissions Reporting and Malfunctions

This rule was modified to include language that requires a malfunction abatement plan for all electric utility boilers and gives the Director discretion to require a malfunction abatement plan for any other source. This rule was also amended to change the reporting time period of a malfunction from 24 hours after the occurrence to no later than 9 am Eastern time of the department's next business day.

3D.0907, Compliance Schedules for Sources in Nonattainment Areas; 3D.0910, Alternative Compliance Schedules; 3D.0911 Exception From Compliance Schedules; 3D.0952, Petition for Alternative Controls; 3D.0954 Stage II Vapor Recovery

These rules were amended to extend the compliance dates.

3D.0909, Compliance Schedules for Sources in New Nonattainment Areas

This rule was amended to correct paragraph references that have changed.

3D.0914 Determination of VOC Emission Control System Efficiency This rule was amended to clarify that the capture efficiency of VOC emission control systems shall be determined using the EPA recommended capture efficiency protocols and test methods as described in the EPA document, EMTIC GD-035, “Guidelines for Determining Capture Efficiency.”

3D.0927 Bulk Gasoline Terminals

This rule was amended to add the definition of “contact deck” and to delete language that allows a bulk gasoline terminal to install a vapor control system that prevents the emissions of VOC's from exceeding 80 milligrams per liter. The revised regulation requires all vapor control systems to limit the emissions of VOC's to 35 milligrams per liter.

3D.0938 Perchloroethylene Dry Cleaning System

This rule was repealed because perchloroethylene was removed from the list as a VOC.

3D.0950 Interim Standards for Certain Source Categories

This rule was amended to delete applicability of this rule to textile coating, bakeries, and Christmas ornament manufacturing because they are now covered by separate rules under 3D.0955, .0956, and .0957, respectively. A sentence has also been added to paragraph (b) which states that “Diacetone alcohol and perchloroethylene are not considered photochemically reactive under this rule.”

3D.0953 Vapor Return Piping for Stage II Vapor Recovery

This rule has been simplified to require vapor return piping to have a diameter of at least two inches for six or fewer nozzles and at least three inches for more than six nozzles.

3Q.0101 Required Air Quality Permits, 3Q.0102 Activities Exempted From Permit Requirements, and 3Q.0301 Applicability

These rules were amended to update references from rule 3Q .0610 to 3Q .0700.

3Q.0207 Annual Emissions Reporting

This rule was amended to add title V minor facilities to the sources required to report actual emissions by June 30 of each year for the previous calender year.

3Q.0312 Application Processing Schedule, and 3Q.0607 Application Processing Schedule

These rules were amended to modify the schedules for processing applications for permits, modifications and renewals.

3Q Section .0800 Exclusionary Rules

This section was adopted to define categories of facilities that are exempted from needing a permit under section .0500, title V Procedures, of this Subchapter by redefining their potential emissions. This section effectively reduces the number of synthetic minors. The following topics are covered in the new rules:

.0801 Purpose and Scope

.0802 Gasoline Service Stations and Dispensing Facilities

.0803 Coating, Solvent Cleaning, Graphic Arts Operations

.0804 Dry Cleaning Facilities

.0805 Grain Elevators

.0806 Cotton Gins

.0807 Emergency Generators

Additional revisions to rules within Section 3Q.0800 are described below.

3Q.0805 Grain Elevators

This rule was amended to raise the exemption limits for shipping or receiving grain from 21,000 to 588,000 tons per year.

3Q.0806 Cotton Gin

This rule was amended to exempt any cotton gin that gins less than 167,000 bales of cotton per year.

3Q.0807 Emergency Generators

This rule was amended to add facilities that use associated fuel storage tanks to the list of sources that require a permit.

Final Action

EPA is approving the aforementioned changes to the State Implementation Plan (SIP) because they are consistent with the Clean Air Act and EPA requirements. These requirements can be found in the January 20, 1994, memo by John R. O'Conner. EPA feels that approving this source specific SIP revision will create no adverse effects in the surrounding attainment area.

EPA is publishing this rule without prior proposal because the Agency views this as a noncontroversial amendment and anticipates no adverse comments. However, in the proposed rules section of this Federal Register publication, EPA is publishing a separate document that will serve as the proposal to approve the SIP revision should relevant adverse comments be filed. This rule will be effective April 17, 2000 without further notice unless the Agency receives relevant adverse comments by March 20, 2000.

If the EPA receives such comments, then EPA will publish a notice withdrawing the final rule and informing the public that the rule will not take effect. All public comments received will then be addressed in a subsequent final rule based on the proposed rule. The EPA will not institute a second comment period on the proposed rule. Any parties interested in commenting on the proposed rule should do so at this time. If no such comments are received, the public is advised that this rule will be effective on April 17, 2000 and no further action will be taken on the proposed rule.

I. Administrative Requirements

A. Executive Order 12866

The Office of Management and Budget (OMB) has exempted this regulatory action from Executive Order 12866, entitled “Regulatory Planning and Review.”

B. Executive Orders on Federalism

Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This final rule will not have substantial direct effects on the States, on the relationship between the national government and the States, or on the distribution of power and responsibilities among the various levels of government, as specified in Executive Order 13132. Thus, the requirements of section 6 of the Executive Order do not apply to this rule.

C. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

D. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation.

In addition, Executive Order 13084 requires EPA to develop an effective process permitting elected and other representatives of Indian tribal governments “to provide meaningful and timely input in the development of regulatory policies on matters that significantly or uniquely affect their communities.” Today's rule does not significantly or uniquely affect the communities of Indian tribal governments. Accordingly, the requirements of section 3(b) of Executive Order 13084 do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This final rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under section 202 of the Unfunded Mandates Reform Act of 1995 (“Unfunded Mandates Act”), signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This rule is not a “major” rule as defined by 5 U.S.C. 804(2).

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by April 17, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides.

Dated: December 3, 1999.
A. Stanley Meiburg,
Acting Regional Administrator, Region 4.

Part 52 of chapter I, title 40, Code of Federal Regulations, is amended as follows:

PART 52—[AMENDED]

1. The authority citation for part 52 continues to read as follows:

Authority: 42.U.S.C. 7401 et seq.

Subpart II—North Carolina

2. Section 52.1783, is amended by adding paragraph (c)(97) to read as follows:

§ 52.1783 Identification of plan.

* * * * *

(c) * * *

(97) The miscellaneous revisions to the Forsyth County Local Implementation Plan, which were submitted on January 17, 1997 and November 6, 1998.

(i) Incorporation by reference.

(A) 3D .0104 Incorporation By Reference 3D .0531; Sources In Nonattainment Areas; 3D .0907, Compliance Schedules for Sources in Nonattainment Areas; 3D .0909, Compliance Schedules for Sources in New Nonattainment Areas; 3D .0910 Alternative Compliance Schedules; 3D .0911 Exception From Compliance Schedules; 3D .0950 Interim Standards for Certain Source Categories; 3D .0952 Petition For Alternative Controls; 3D .0954 Stage II Vapor Recovery and 3Q Section .0800 Exclusionary Rules effective on November 13, 1995.

(B) 3A .0106 Penalties for Violation of Chapter; 3A .0110 CFR Dates; and 3A .0112 ASTM Dates; 3D.0101 Definitions; 3D .0506, Particulates from Hot Mix Asphalt Plants; 3D .0507, Particulates From Chemical Fertilizer Manufacturing Plants; 3D .0508 Particulates From Pulp and Paper Mills; 3D .0509 Particulates From Mica or Feldspar Processing Plants; 3D .0510 Particulates from Sand, Gravel, or Crushed Stone Operations and 3D .0511 Particulates from Lightweight Aggregate Processes 3D .0515 Particulates From Miscellaneous Industrial Processes; 3D .0521, Control of Visible Emissions; 3D .0535, Excess Emissions Reporting and Malfunctions; 3D .0914 Determination of VOC Emission Control System Efficiency; 3D .0927 Bulk Gasoline Terminals; 3D .0938 Perchloroethylene Dry Cleaning System (Repealed); 3D .0953 Vapor Return Piping for Stage II Vapor Recovery 3Q .0101 Required Air Quality Permits; 3Q .0102 Activities Exempted From Permit Requirements; 3Q . 0103 Definitions; 3Q .0207 Annual Emissions Reporting; 3Q .0301 Applicability; 3Q .0302 Facilities not Likely to Contravene Demonstration; 3Q .0306 Permits Requiring Public Participation; 3Q .0312 Application Processing Schedule; 3Q .0607 Application Processing Schedule; 3Q .0805 Grain Elevators; 3Q .0806 Cotton Gin; and 3Q .0807 Emergency Generators effective on September 14, 1998.

(ii) Other material. None.

[FR Doc. 00-3359 Filed 2-16-00; 8:45 am]

BILLING CODE 6560-50-P